INTERNATIONAL TRADE COMMISSION

[Investigation No. 337-TA-1467]

Certain Low-Profile Microwave-Hood Combination Products; Notice of Institution of Investigation

AGENCY: U.S. International Trade Commission.

ACTION: Notice.

SUMMARY: Notice is hereby given that a complaint was filed with the U.S. International Trade Commission on November 18, 2025, under section 337 of the Tariff Act of 1930, as amended, on behalf of Whirlpool Corporation of Benton Harbor, Michigan. A supplement to the complaint was filed on December 4, 2025. The complaint, as supplemented, alleges violations of section 337 based upon the importation into the United States, the sale for importation, and the sale within the United States after importation of certain low-profile microwave-hood combination products by reason of the infringement of certain claims of U.S. Patent No. 11,079,118 (“the '118 patent”); U.S. Patent No. 11,979,967 (“the '967 patent”); U.S. Patent No. 12,101,865 (“the '865 patent”); U.S. Patent No. 12,133,317 (“the '317 patent”); and U.S. Patent No. 12,289,819 B2 (“the '819 patent”). The complaint further alleges that an industry in the United States exists as required by the applicable Federal Statute. The complainant requests that the Commission institute an investigation and, after the investigation, issue a limited exclusion order and cease and desist orders.

ADDRESSES: The complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Susan Orndoff, The Office of Docket Services, U.S. International Trade Commission, telephone (202) 205-1802.

SUPPLEMENTARY INFORMATION:

Authority: The authority for institution of this investigation is contained in section 337 of the Tariff Act of 1930, as amended, 19 U.S.C. 1337, and in section 210.10 of the Commission's Rules of Practice and Procedure, 19 CFR 210.10 (2025).

Scope of Investigation: Having considered the complaint, the U.S. International Trade Commission, on December 17, 2025, ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 1-5 and 18 of the '118 patent; claims 1-5 and 7-23 of the '967 patent; claims 1-21 of the '865 patent; claims 1-8 of the '317 patent; and claims 1-30 of the '819 patent, and whether an industry in the United States exists as required by subsection (a)(2) of section 337;

(2) Pursuant to section 210.10(b)(1) of the Commission's Rules of Practice and Procedure, 19 CFR 210.10(b)(1), the plain language description of the accused products or category of accused products, which defines the scope of the investigation, is “low-profile, microwave oven and ventilation-hood combination products for installation over a cooking range or cooktop”;

(3) For the purpose of the investigation so instituted, the following are hereby named as parties upon which this notice of investigation shall be served:

(a) The complainant is: Whirlpool Corporation, 2000 North M-63, Benton Harbor, MI 49022.

(b) The respondents are the following entities alleged to be in violation of section 337, and are the parties upon which the complaint is to be served:

Samsung Electronics Co., Ltd., 129 Samsung-Ro, Yeongtong-Gu, Suwon-si, Gyeonggi-do 16677, Republic of Korea

Samsung Electronics America, Inc., 700 Sylvan Avenue, Englewood Cliffs, NJ 07632

LG Electronics Inc., LG Twin Tower 128 Yeoui-daero, Yeongdeungpo-gu, Seoul, 07336, Republic of Korea

LG Electronics USA, Inc., 111 Sylvan Avenue, Englewood Cliffs, NJ 07632

Midea Group Co., Ltd., Midea Headquarters Building, No. 6 Midea Avenue, Beijiao Town, Shunde District, Foshan City, Guangdong Province, China 528311

Midea America Corporation, 300 Kimball Drive, Suite 201, Parsippany, NJ 07054

Haier Group Corporation, 1 Haier Road, Qingdao, Shandong 266101 China

Haier US Appliance Solutions, Inc., d/b/a GE Appliances, GE Appliance Park—Corporate Campus, 4000 Buechel Bank Rd., Louisville, KY 40225

Electrolux Professional AB, SE-105 45 Stockholm, Sweden

Electrolux Consumer Products, Inc., 10200 David Taylor Drive, Charlotte, NC 28262

Cosmo Products, LLC, 5075 Edison Avenue, Chino, CA, 91710

Meyer Corporation, U.S., 1 Meyer Plaza, Vallejo, CA 94590

Koolmore Supply, Inc., 706 Eastern Pkwy # 1G, Brooklyn, NY 11213

THOR International, d/b/a THOR Kitchen, Inc., 4651 E Airport Drive, Ontario, CA 91761

Unique Appliances Ltd., 2245 Wyecroft Road, Oakville, ON, Canada L6L 5L7

CTM Household Appliances Inc. d/b/a FORNO, 11420 Albert-Hudon, Montreal (Quebec) H1G 3J5, Canada

(4) For the investigation so instituted, the Chief Administrative Law Judge, U.S. International Trade Commission, shall designate the presiding Administrative Law Judge.

The Office of Unfair Import Investigations will not participate as a party in this investigation.

Responses to the complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: December 17, 2025.
Lisa Barton,
Secretary to the Commission.

[FR Doc. 2025-23516 Filed 12-19-25; 8:45 am]

BILLING CODE 7020-02-P